ENVIRONMENTAL PROTECTION AGENCY

[EPA-HQ-OPPT-2020-0077; FRL-10006-61]

Certain New Chemicals; Receipt and Status Information for February 2020

AGENCY: Environmental Protection Agency (EPA).

ACTION: Notice.

SUMMARY: EPA is required under the Toxic Substances Control Act (TSCA), as amended by the Frank R. Lautenberg Chemical Safety for the 21st Century Act, to make information publicly available and to publish information in the Federal Register pertaining to submissions under TSCA Section 5, including notice of receipt of a Premanufacture notice (PMN), Significant New Use Notice (SNUN) or Microbial Commercial Activity Notice (MCAN), including an amended notice or test information; an exemption application (Biotech exemption); an application for a test marketing exemption (TME), both pending and/or concluded; a notice of commencement (NOC) of manufacture (including import) for new chemical substances; and a periodic status report on new chemical substances that are currently under EPA review or have recently concluded review. This document covers the period from 02/01/2020 to 02/29/2020.

DATES: Comments identified by the specific case number provided in this document must be received on or before April 22, 2020.

ADDRESSES: Submit your comments, identified by docket identification (ID) number EPA-HQ-OPPT-2020-0077, and the specific case number for the chemical substance related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT:

For technical information contact: Jim Rahai, Information Management Division (MC 7407M), Office of Pollution Prevention and Toxics, Environmental Protection Agency, 1200 Pennsylvania Ave. NW, Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. Executive Summary

A. What action is the Agency taking?

This document provides the receipt and status reports for the period from 02/01/2020 to 02/29/2020. The Agency is providing notice of receipt of PMNs, SNUNs and MCANs (including amended notices and test information); an exemption application under 40 CFR part 725 (Biotech exemption); TMEs, both pending and/or concluded; NOCs to manufacture a new chemical substance; and a periodic status report on new chemical substances that are currently under EPA review or have recently concluded review.

EPA is also providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

B. What is the Agency's authority for taking this action?

Under the Toxic Substances Control Act (TSCA), 15 U.S.C. 2601 et seq., a chemical substance may be either an “existing” chemical substance or a “new” chemical substance. Any chemical substance that is not on EPA's TSCA Inventory of Chemical Substances (TSCA Inventory) is classified as a “new chemical substance,” while a chemical substance that is listed on the TSCA Inventory is classified as an “existing chemical substance.” (See TSCA section 3(11).) For more information about the TSCA Inventory go to: https://www.epa.gov/tsca-inventory.

Any person who intends to manufacture (including import) a new chemical substance for a non-exempt commercial purpose, or to manufacture or process a chemical substance in a non-exempt manner for a use that EPA has determined is a significant new use, is required by TSCA section 5 to provide EPA with a PMN, MCAN or SNUN, as appropriate, before initiating the activity. EPA will review the notice, make a risk determination on the chemical substance or significant new use, and take appropriate action as described in TSCA section 5(a)(3).

TSCA section 5(h)(1) authorizes EPA to allow persons, upon application and under appropriate restrictions, to manufacture or process a new chemical substance, or a chemical substance subject to a significant new use rule (SNUR) issued under TSCA section 5(a)(2), for “test marketing” purposes, upon a showing that the manufacture, processing, distribution in commerce, use, and disposal of the chemical will not present an unreasonable risk of injury to health or the environment. This is referred to as a test marketing exemption, or TME. For more information about the requirements applicable to a new chemical go to: http://www.epa.gov/oppt/newchems.

Under TSCA sections 5 and 8 and EPA regulations, EPA is required to publish in the Federal Register certain information, including notice of receipt of a PMN/SNUN/MCAN (including amended notices and test information); an exemption application under 40 CFR part 725 (biotech exemption); an application for a TME, both pending and concluded; NOCs to manufacture a new chemical substance; and a periodic status report on the new chemical substances that are currently under EPA review or have recently concluded review.

C. Does this action apply to me?

This action provides information that is directed to the public in general.

D. Does this action have any incremental economic impacts or paperwork burdens?

No.

E. What should I consider as I prepare my comments for EPA?

1. Submitting confidential business information (CBI). Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Status Reports

In the past, EPA has published individual notices reflecting the status of TSCA section 5 filings received, pending or concluded. In 1995, the Agency modified its approach and streamlined the information published in the Federal Register after providing notice of such changes to the public and an opportunity to comment (See the Federal Register of May 12, 1995, (60 FR 25798) (FRL-4942-7). Since the passage of the Lautenberg amendments to TSCA in 2016, public interest in information on the status of section 5 cases under EPA review and, in particular, the final determination of such cases, has increased. In an effort to be responsive to the regulated community, the users of this information, and the general public, to comply with the requirements of TSCA, to conserve EPA resources and to streamline the process and make it more timely, EPA is providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

III. Receipt Reports

For the PMN/SNUN/MCANs that have passed an initial screening by EPA during this period, Table I provides the following information (to the extent that such information is not subject to a CBI claim) on the notices screened by EPA during this period: The EPA case number assigned to the notice that indicates whether the submission is an initial submission, or an amendment, a notation of which version was received, the date the notice was received by EPA, the submitting manufacturer (i.e., domestic producer or importer), the potential uses identified by the manufacturer in the notice, and the chemical substance identity.

As used in each of the tables in this unit, (S) indicates that the information in the table is the specific information provided by the submitter, and (G) indicates that this information in the table is generic information because the specific information provided by the submitter was claimed as CBI. Submissions which are initial submissions will not have a letter following the case number. Submissions which are amendments to previous submissions will have a case number followed by the letter “A” (e.g. P-18-1234A). The version column designates submissions in sequence as “1”, “2”, “3”, etc. Note that in some cases, an initial submission is not numbered as version 1; this is because earlier version(s) were rejected as incomplete or invalid submissions. Note also that future versions of the following tables may adjust slightly as the Agency works to automate population of the data in the tables.

Table I—PMN/SNUN/MCANs Approved * From 02/01/2020 to 02/29/2020
Case No. | Version | Received date | Manufacturer | Use | Chemical substance
P-16-0424A | 4 | 02/18/2020 | Sachem Inc | (G) Directing agent | (G) Tetraalkylpiperidinium hydroxide.
P-16-0425A | 5 | 02/05/2020 | CBI | (G) A chemical reactant used in manufacturing a polymer | (G) amino-silane.
P-17-0178A | 5 | 02/26/2020 | Shin-Etsu Microsi | (G) Microlithography for electronic device manufacturing | (G) Sulfonium, triphenyl-, salt with substituted-alkyl 4-substituted-benzoate.
P-17-0355A | 7 | 02/05/2020 | CBI | (G) Site intermediate | (G) Benzoic acid, 2-hydroxy-, -alkyl derivs.
P-18-0013A | 3 | 02/26/2020 | Shin-Etsu Microsi | (G) Microlithography for electronic device manufacturing | (G) Substituted-triphenylsulfonium, inner salt.
P-18-0014A | 3 | 02/26/2020 | Shin-Etsu Microsi | (G) Microlithography for electronic device manufacturing | (G) Sulfonium, triphenyl-, salt with disubstituted-heterocyclic compound (1:1).
P-18-0037A | 2 | 02/26/2020 | Shin-Etsu Microsi | (G) Microlithography for electronic device manufacturing | (G) Sulfonium, triphenyl-, salt with 2,4,5-trisubstituted-benzenesulfonate (1:1).
P-18-0151A | 9 | 02/04/2020 | Struers Inc | (S) A curing agent for curing epoxy systems | (S) Formaldehyde, reaction products with 1,3-benzenedimethanamine and p-tert-butylphenol.
P-18-0154A | 8 | 02/19/2020 | CBI | (G) Crosslinking agent for coatings | (G) Isocyanic acid, polyalkylenepolycycloalkylene ester, 2-alkoxy alkanol and 1-alkoxy alkanol and alkylene diol blocked.
P-18-0211A | 2 | 02/17/2020 | Patcham USA LLC | (S) Wetting and dispersing agent for pigment formulations, paints, and coatings | (G) Alkaneamine, (aminoalkyl)-, polymer with aziridine and 1,6-diisocyanatohexane, polyethylene glycol alkyl ether- and polyethylene-polypropylene glycol aminoalkyl alkyl ether- and alkenyl benzenated polyethylene glycol Ph ether.
P-18-0273A | 5 | 02/05/2020 | CBI | (G) Used in polymer manufacturing | (S) 1,4-Cyclohexanedicarboxylic acid, 1,4-bis(2-ethylhexyl) ester.
P-18-0283A | 6 | 02/21/2020 | CBI | (G) Open, non-dispersive use | (G) Hydroxy alkanoic acid, compds. with aminoalkoxyalcohol-epoxy polymer-alkanolamine reaction products.
P-18-0289A | 4 | 02/13/2020 | CBI | (G) Gas scrubbing, (G) landfill deoderizing, (G) wastewater deoderizing | (G) 2-(2(methylcaboxymonocyclic)amino)ethoxy)-alcohol.
P-18-0290A | 4 | 02/13/2020 | CBI | (G) wastewater deodorizing, (G) Gas scrubbing, (G) Landfill odor neutralizing | (G) Carbomonocylic-oxazolidine.
P-18-0302A | 5 | 02/15/2020 | CBI | (G) Chemical intermediate | (S) D-glucaric acid, ammonium salt (1:1).
P-18-0323A | 5 | 02/25/2020 | Kuraray America, Inc | (G) Raw material for polymer manufacturing | (S) 2-Propenoic acid, 2-methyl-, 3-methyl-3-buten-1-yl ester.
P-18-0323A | 6 | 02/28/2020 | Kuraray America, Inc | (G) Raw material for polymer manufacturing | (S) 2-Propenoic acid, 2-methyl-, 3-methyl-3-buten-1-yl ester.
P-18-0326A | 6 | 02/24/2020 | CBI | (G) Chemical Intermediate | (G) Alkanoic acid, alkyl ester, manuf. of, byproducts from, distn. residues.
P-18-0379A | 2 | 02/11/2020 | CBI | (G) Hardener for waterborne epoxy system | (G) Cashew nutshell liquid polymer with Epichlorohydrin, formaldehyde, phenol, amines and glycol.,
P-18-0387A | 2 | 02/06/2020 | CBI | (G) Plastic Additive | (G) Alkanal, reaction products with alkanediyl bis[alkyl-tris(alkyl-heterocycle)-1,3,5-triazine-2,4,6-triamine and hydrogen peroxide.
P-18-0388A | 2 | 02/06/2020 | CBI | (G) Plastic additive | (G) 1,3,5-triazine-2,4,6-triamine, alkanediyl bis[alkyl-tris(alkyl-heterocycle)-, allyl derivs., oxidized, hydrogenated.
P-19-0053A | 7 | 02/28/2020 | Wacker Chemical Corporation | (S) Used as a surface treatment, sealant, caulk, and coating for mineral building materials such as concrete, brick, limestone, and plaster, as well as on wood, metal and other substrates | (S) 1-Butanamine, N-butyl-N-[(triethoxysilyl)methyl]-
P-19-0064A | 6 | 02/21/2020 | The Sherwin Williams Company | (G) Polymeric film former for coatings | (G) 4,4′-methylenebis[2,6-dimethyl phenol] polymer with 2-(chloromethyl)oxirane, 1,4-benzyl diol, 2-methyl-2-propenoic acid, butyl 2-methyl 2-propenoate, ethyl 2-methyl 2-propenoate, and ethyl 2-propenoate, reaction products with 2-(dimethylamino) ethanol.
P-19-0077A | 10 | 02/19/2020 | CBI | (G) Agricultural | (G) Alkenylamide.
P-19-0085A | 3 | 02/18/2020 | Neste oil US, Inc | (G) The PMN substance will be used as a functional fluid in electrical equipment | (G) Aliphatic hydrocarbons, C16-18-branched and linear.
P-19-0088A | 4 | 02/26/2020 | CBI | (G) Feedstock for amine recovery | (S) Ethanamine, N-ethyl-, 2-hydroxy-1,2,3-propanetricarboxylate (1:?).
P-19-0109A | 8 | 02/20/2020 | Arch Chemicals, Inc | (G) A component of a cleaning formulation to improve the wettability of the overall cleaning solution on the substrate | (S) Copper, [[2,2′,2″-(nitrilo-.kappa.N)tris[ethanolato-.kappa.O]](2-)]-(S) Copper, bis[2-(amino-.kappa.N)ethanolato-.kappa.O]-;
P-19-0170A | 2 | 02/06/2020 | CBI | (S) Coupling agent in elastomer-based formulations that will be used in molding operations to manufacture different types of rubber articles including but not limited to rubber tires | (G) Heteroatom-substituted alkyl triethoxysilane, reaction products with methylated formaldehyde-melamine polymer.
P-20-0008A | 2 | 02/13/2020 | Archroma U.S., Inc | (S) Dye for use with paper, paper products, and nonwoven products produced from paper | (G) 7-Heteropolycyclicsulfonic acid, 2-[4-[2-[1-[[(2-methoxy-5-methyl-4-sulfophenyl)amino]carbonyl]-2-oxopropyl]diazenyl]phenyl]-6-methyl-, compd. with (alkylamino)alkanol and (hydroxyalkyl)amine.
P-20-0010A | 4 | 02/21/2020 | CBI | (G) Polymerization auxiliary | (G) Carboxylic acid, reaction products with metal hydroxide, inorganic dioxide and metal.
P-20-0012A | 6 | 02/07/2020 | CBI | (G) Ink Additive | (G) Polyol, polymer with alkyl diisocyanate, alkyl substituted heterocycle blocked.
P-20-0013A | 2 | 02/17/2020 | Arkema Inc | (G) UV curable inks | (S) 2-Propenoic acid, 2-methyl-, (2-oxo-1,3-dioxolan-4-yl)methyl ester.
P-20-0015A | 5 | 02/05/2020 | GE Healthcare | (S) Used in the manufacture of hollow fiber products | (G) N-alkyl heteromonocyclic diphenolamide, polymer with Bisphenol A, haloaryl-substituted sulfone, compd. with cyclic sulfonate ester, polyaryl alcohol terminated.
P-20-0024A | 4 | 02/21/2020 | CBI | (G) Dispersant polymer for coatings | (G) Phenol-formaldehyde polymer with amino-oxirane copolymer and nitrobenzoates.
P-20-0026A | 4 | 02/04/2020 | GE Healthcare | (S) The new monomer is isolated and used for subsequent polymerization | (G) N-alkyl heteromonocyclic diphenolamide.
P-20-0026A | 5 | 02/05/2020 | GE Healthcare | (S) The new monomer is isolated and used for subsequent polymerization | (G) N-alkyl heteromonocyclic diphenolamide.
P-20-0026A | 6 | 02/06/2020 | GE Healthcare | (S) The new monomer is isolated and used for subsequent polymerization | (G) N-alkyl heteromonocyclic diphenolamide.
P-20-0036 | 2 | 02/06/2020 | Sigma-Aldrich Co LLC | (G) Used in the manufacture of Lithium-6 Chloride | (S) Carbonic acid, di(lithium-6Li) salt.
P-20-0037 | 3 | 02/12/2020 | Sigma-Aldrich Co LLC | (G) Used in manufacturing devices for gamma and neutron radiation detection | (S) Lithium Chloride (6LiCl).
P-20-0043 | 4 | 02/23/2020 | Saproterra | (S) Soil and Plant amendment | (S) Acetic acid, 2-[[3-(4-pyridinyl)-1H-1,2,4-triazol-5-yl]thio]-, compd. with 2-aminoethanol (1:1).
P-20-0044A | 2 | 02/21/2020 | Angus Chemical Company | (G) Curing additive: Automotive paint, (G) Neutralization, stability and pigment dispersancy in industrial latex paints, (G) Neutralization, solubilization and stability in commercial waterborne and solvent borne coatings and varnishes used for wood, metal, composites and other substrates, (G) Solubilizer for high acid value styrene acrylic polymers for use in ink applications, (G) Additive for industrial polyurethane dispersions | (S) 1-Propanamine, 3-methoxy-N,N-dimethyl.
P-20-0045 | 2 | 02/27/2020 | Torrecid USA LLC | (G) Raw material in ceramic tiles production | (S) Iron oxide (Fe2O3), mixed with silica, calcined.
P-20-0050 | 2 | 02/05/2020 | CBI | (G) Additive in consumer products | (S) Benzenepentanol, alpha, gamma-dimethyl-
P-20-0050A | 3 | 02/20/2020 | CBI | (G) Additive in consumer products | (S) Benzenepentanol, alpha, gamma-dimethyl-
P-20-0051A | 2 | 02/07/2020 | CBI | (S) Curing agent for Industrial epoxy coating systems | (S) 1,8-Octanediamine, 4-(aminomethyl)-, N-benzyl derivs.
P-20-0052 | 1 | 02/05/2020 | Evonik Corporation | (S) Liquid shrinkage reducing admixture for concrete | (S) Oxirane, 2-methyl-, polymer with oxirane, mono(3,5,5-trimethylhexanoate).
P-20-0054 | 1 | 02/07/2020 | CBI | (G) Catalyst is used in a closed process | (S) Nitrile hydratase.
P-20-0056 | 2 | 02/12/2020 | CBI | (G) Pigment dispersant | (G) Polyphosphoric acids, 2-[(alkyl-1-oxo-alkene-1-yl)oxy]alkyl esters, polymers with acrylic acid, alkyl acrylate, alkyl methacrylate, hydroxyalkyl methacrylate and carbomonocycle, 2,2′-(1,2-diazenediyl)bis[2,4-dialkylalkanenitrogensubstituted]-initiated.
P-20-0057 | 1 | 02/11/2020 | Nusil Technology LLC | (G) Silane coupling agent used in silicone formulations | (G) Arene, trimethoxysilyl-, hydrolyzed.
P-20-0058 | 2 | 02/19/2020 | CBI | (G) Additive for automatic dishwashing, (G) Additive for hard surface cleaner | (G) Polysaccharide, polymer with unsaturated carboxylic acid and methacryloxyethyltrimethyl ammonium chloride, sodium salt, acid salt initiated.
P-20-0059 | 3 | 02/28/2020 | CBI | (S) Colorant for thermoplastic resins | (G) Propanedinitrile, 2-[[4-[ethyl[2-[4-(substitute methyl butyl)phenoxy]ethyl]amino]-2-methylphenyl]methylene].
SN-20-0001 | 1 | 02/05/2020 | CBI | (G) Carrier fluids, (G) Precision and general cleaning, (G) Aerosol solvent | (S) 2-Butene, 1,1,1,4,4,4-hexafluoro-, (2Z)-
* The term `Approved' indicates that a submission has passed a quick initial screen ensuring all required information and documents have been provided with the submission prior to the start of the 90-day review period, and in no way reflects the final status of a complete submission review.

In Table II of this unit, EPA provides the following information (to the extent that such information is not claimed as CBI) on the NOCs that have passed an initial screening by EPA during this period: The EPA case number assigned to the NOC including whether the submission was an initial or amended submission, the date the NOC was received by EPA, the date of commencement provided by the submitter in the NOC, a notation of the type of amendment (e.g., amendment to generic name, specific name, technical contact information, etc.) and chemical substance identity.

Table II—NOCs Approved* From 02/01/2020 to 02/29/2020
Case No. | Received date | Commencement date | If amendment, type of amendment | Chemical Substance
P-12-0315 | 02/07/2020 | 01/22/2020 | N | (G) 2-alkenoic acid, 2-alkyl-, polymer with alkyl 2-alkyl alkanoate, vinyl carbomonocycle, alkyl alkanoate and alkanediol alkanoate, tert-alkyl alkane peroxoate and tert-alkyl alkylalkaneperoxoate initiated.
P-15-0054A | 02/13/2020 | 09/30/2015 | CBI Substantiation provided | (G) Carbon nanotubes.
P-15-0361 | 02/24/2020 | 02/20/2020 | N | (G) Alkyl and aralkyl and trimethoxysilylethylene modified polysiloxane.
P-18-0108 | 02/11/2020 | 01/27/2020 | N | (G) Aromatic anhydride polymer with bisalkylbiphenylbisamine compound with alkylaminoalkyl acrylate ester.
P-18-0133 | 02/13/2020 | 02/04/2020 | N | (G) Polyol adduct of bisaldehyde.
P-18-0160 | 02/21/2020 | 02/12/2020 | N | (G) Heteropolycyclic, halo substituted alkyl substituted- diaromatic amino substituted carbomonocycle, halo substituted alkyl substituted heteropolycyclic, tetraaromatic metalloid salt (1:1).
P-18-0258 | 02/06/2020 | 01/24/2020 | N | (G) Dioic acids, polymers with caprolactam and alkyldiamines.
P-18-0277A | 02/21/2020 | 05/15/2019 | CBI Substantiation provided | (G) Poly[2-(dimethylamino)ethyl acrylate chloride salt, vinyl acetate, methacrylic acid and alkyl acrylates].
P-18-0358 | 02/14/2020 | 01/20/2020 | N | (S) 1H-Imidazole-1-propanenitrile,2-ethyl-ar-methyl-
P-19-0055 | 02/14/2020 | 02/12/2020 | N | (S) 1,3-propanediol, 2-ethyl-2-(hydroxymethyl)-, polymer with oxirane, 4-(dimethylamino)benzoate.
P-19-0130A | 02/04/2020 | 10/23/2019 | CBI Substantiation provided | (G) Aminohydroxy naphthalenesulfonic acid, coupled with diazotized[(aminophenyl)sulfonyl]ethyl hydrogen sulfate and diazotized amino[[(sulfooxy)ethyl]sulfonyl]benzenesulfonic acid, salts.
P-19-0152 | 02/03/2020 | 01/18/2020 | N | (G) Alkaneic acid, dialkyl ester polymer with alkanediol, (isocyanatocarbomonocycle) alkyl) carbomonocycle) carbamate.
* The term `Approved' indicates that a submission has passed a quick initial screen ensuring all required information and documents have been provided with the submission.

In Table III of this unit, EPA provides the following information (to the extent such information is not subject to a CBI claim) on the test information that has been received during this time period: The EPA case number assigned to the test information; the date the test information was received by EPA, the type of test information submitted, and chemical substance identity.

Table III—Test Information Received From 02/01/2020 to 02/29/2020
Case No. | Received date | Type of Test Information | Chemical Substance
P-16-0543 | 01/29/2020 | Exposure Monitoring Report | (G) Halogenophosphoric acid metal salt.
LM-18-0050 | 02/19/2020 | Fish Acute Toxicity Test (OCED Test Guideline 203), Ready Biodegradability (OECD Test Guideline 301F), Hydrolysis as a function of pH (OECD Test Guideline 111), S, E, R, F Value Table | (G) Heterocyclic amine, 1-[2-[[4-[2-[2-amino-6-[2-[2,5-dialkoxy-4-[[2-(sulfooxy)alkyl]sulfonyl]aromaticyl]]diazenyl]-5-hydroxy-7-sulfo-1-aromaticyl]]diazenyl]-3-sulfoaromaticyl]]sulfonyl]alkyl]-3-carboxy-, inner salt, alkali metal.
P-18-0159 | 02/04/2020 | Acute Oral Toxicity in the Rat (OECD Test Guideline 420) | (G) Thiophenium, 1-(2,7-disubstituted-1-naphthalenyl)tetrahydro-, salt with polyfluoro-n-polyfluoroalkylsulfonyl-1-alkanesulfonamide(1:1).
P-18-0202 | 01/29/2020 | Water Solubility: Column Elution Method; Shake Flask Method (OCSPP Test Guideline 830.7840) | (G) Trialkyl alkanal, polymer with phenol.

If you are interested in information that is not included in these tables, you may contact EPA's technical information contact or general information contact as described under FOR FURTHER INFORMATION CONTACT to access additional non-CBI information that may be available.

Authority: 15 U.S.C. 2601 et seq.

Dated: March 12, 2020.
Pamela Myrick,
Director, Information Management Division, Office of Pollution Prevention and Toxics.

[FR Doc. 2020-06063 Filed 3-20-20; 8:45 am]

BILLING CODE 6560-50-P